DEPARTMENT OF THE INTERIOR

Bureau of Reclamation

Integrated Water Resource Management Plan, Yakima River Basin Water Enhancement Project, Benton, Kittitas, Klickitat, and Yakima Counties, Washington

AGENCY: Bureau of Reclamation, Interior.

ACTION: Notice of intent to prepare a combined planning report and programmatic environmental impact statement, and notice of scoping meetings.

SUMMARY: The Bureau of Reclamation (Reclamation) proposes to prepare a combined Planning Report and Programmatic Environmental Impact Statement (EIS) on the Integrated Water Resource Management Plan, Yakima River Basin Water Enhancement Project. The Washington State Department of Ecology (Ecology) will be a joint lead agency with Reclamation in the preparation of this Programmatic EIS, which will also be used to comply with requirements of the Washington State Environmental Policy Act (SEPA).

DATES: Written comments on the proposal, reasonable alternatives to the proposal, potential environmental impacts, and mitigation measures will be accepted through May 19, 2011 for inclusion in the scoping summary document.

Scoping meetings, preceded by open houses, will be held at the following communities, dates, and times:

• Ellensburg, Washington; May 3, 2011; open house and scoping meeting 1:30 to 3:30 pm and again from 5 to 7 pm.

• Yakima, Washington; May 5, 2011; open house and scoping meeting 1:30 to 3:30 pm and again from 5 to 7 pm.

Requests for sign language interpretation for the hearing impaired or other special assistance needs should be submitted by April 26, 2011.

ADDRESSES: Send written scoping comments, requests to be added to the mailing list, or requests for sign language interpretation for the hearing impaired or other special assistance needs, to Bureau of Reclamation, Columbia-Cascades Area Office, Attention: Candace McKinley, Environmental Program Manager, 1917 Marsh Road, Yakima, WA 98901; or by e-mail to yrbwep@usbr.gov.

The Ellensburg open house and scoping meetings will be held at the Hal Holmes Center, 209 N. Ruby Street, Ellensburg, Washington 98926. The Yakima open house and scoping meetings will be held at the Yakima Area Arboretum, 1401 Arboretum Way, Yakima, Washington 98901. The meeting facilities are physically accessible to people with disabilities.

Information on this project may also be found at http://www.usbr.gov/pn/programs/yrbwep/index.html.

FOR FURTHER INFORMATION CONTACT: Contact Candace McKinley, Environmental Program Manager, Telephone (509) 575-5848, ext. 237. TTY users may dial 711 to obtain a toll-free TTY relay.

SUPPLEMENTARY INFORMATION:

Background

In 1979, Congress initiated the Yakima River Basin Water Enhancement Project (YRBWEP) in response to long-standing water resource problems in the basin. The YRBWEP was charged with developing a plan to achieve four objectives: (1) Provide supplemental water for presently irrigated lands; (2) provide water for new lands within the Yakama Indian Reservation; (3) provide water for increased instream flows for aquatic life; and (4) identify a comprehensive approach for efficient management of basin water supplies.

Initial efforts in the mid-1980s (Phase 1) focused on improving fish passage by rebuilding fish ladders and constructing fish screens at existing diversions. Phase 2 in the 1990s focused on water conservation/water acquisition activities, tributary fish screens, and long-term management needs. Efforts under these initial phases were hindered by the ongoing uncertainties associated with adjudication of the basin surface waters that began in 1978. With the adjudication process now largely completed, most of these water right uncertainties have been addressed.

In 2003, Reclamation and Ecology initiated the Yakima River Basin Water Storage Feasibility Study to examine storage augmentation in the Yakima River basin. This study emphasized evaluation of a proposed Black Rock Reservoir, which was the focus of the Yakima River Basin Water Storage Feasibility Study Draft Planning Report/Environmental Impact Statement (PR/EIS) issued in January 2008.

The narrow focus of the legislative authorization in combination with comments on the Draft PR/EIS prompted Ecology to separate from the National Environmental Policy Act (NEPA) process. In mid-2008, Ecology initiated a separate evaluation of the Yakima basin's water supply problems, including consideration of habitat and fish passage needs. Reclamation continued the NEPA process consistent with its legislative authorization and issued the Yakima River Basin Water Storage Feasibility Study Final PR/EIS in December 2008. Following issuance of the Final PR/EIS, Reclamation selected the No Action Alternative. Ecology completed its study and issued a separate Final Environmental Impact Statement (FEIS) for the Yakima River Basin Integrated Water Resource Management Alternative in June 2009 under SEPA.

The Integrated Water Resource Management Alternative evaluated in the Ecology FEIS relies upon a range of water management and habitat improvement approaches comprised of seven major elements to resolve the long-standing water resource problems in the basin. Elements of the Integrated Water Resource Management Plan that will be analyzed in the Programmatic EIS include, but are not limited to:

1. Fish Passage (fish passage improvements at Cle Elum, Bumping, Clear Lake, Keechelus, Kachess, and Tieton Dams);

2. Structural/Operational Changes (subordination of power generation at Roza and Chandler Power Plants);

3. Surface Storage (new Wymer Dam and Reservoir, Bumping Reservoir enlargement, Kachess inactive storage);

4. Groundwater Storage (groundwater infiltration prior to storage control);

5. Fish Habitat (mainstem floodplain restoration program);

6. Enhanced Water Conservation (agricultural water and municipal/domestic conservation); and

7. Market-Based Reallocation of Water Resources (institutional improvements to facilitate market-based water transfers).

The proposed plan may affect Indian trust assets of the Yakama Nation and the Confederated Tribes of the Umatilla Indian Reservation. There are no known adverse or significant impacts to minority or low-income populations or communities associated with this proposal.

Reclamation is requesting early public comment and agency input to help identify significant issues and alternatives to be addressed in the Programmatic EIS. Information obtained during the scoping period will help in developing information to be included in the Programmatic EIS. A Draft Programmatic EIS is expected to be issued in winter of 2011, followed by an opportunity for public and agency review and comment. The Final Programmatic EIS is anticipated for completion in spring of 2012. A Record of Decision, describing which alternative is selected for implementation, and the rationale for its selection, would then be issued following a 30-day waiting period.

Public Involvement

Reclamation and Ecology will conduct public scoping meetings to solicit comments on the alternatives for the Integrated Water Resource Management Plan, and to identify potential issues and impacts associated with those alternatives. Reclamation and Ecology will summarize comments received during the scoping meetings and from letters of comment received during the scoping period, identified under the DATES section, into a scoping summary document that will be made available to those who have provided comments. It will also be available to others upon request. If you wish to comment, you may provide your comments as indicated under the ADDRESSES section.

Public Disclosure

Before including your name, address, phone number, e-mail address, or other personal identifying information in your comment, you should be aware that your entire comment—including your personal identifying information—may be made publicly available at any time. While you may ask us in your comment to withhold your personal identifying information from public review, we cannot guarantee that we will be able to do so.

Dated: March 29, 2011.
Steven L. Brawley,
Acting Regional Director, Pacific Northwest Region.

[FR Doc. 2011-7969 Filed 4-4-11; 8:45 am]

BILLING CODE 4310-MN-P